FEDERAL COMMUNICATIONS COMMISSION

Information Collection Being Reviewed by the Federal Communications Commission for Extension Under Delegated Authority

AGENCY: Federal Communications Commission.

ACTION: Notice and Request for comments.

SUMMARY: As part of its continuing effort to reduce paperwork burdens and as required by the Paperwork Reduction Act of 1995, Public Law 104-13, the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees.

The FCC may not conduct or sponsor a collection of information unless it displays a currently valid control number. No person shall be subject to any penalty for failing to comply with a collection of information subject to the Paperwork Reduction Act (PRA) that does not display a valid control number.

DATES: Persons wishing to comment on this information collection should submit comments by September 27, 2011. If you anticipate that you will be submitting comments, but find it difficult to do so within the period of time allowed by this notice, you should advise the contact listed below as soon as possible.

ADDRESSES: Submit your PRA comments to Nicolas A. Fraser, Office of Management and Budget (OMB), via fax at 202-395-5167, or via the Internet at Nicholas_A._Fraser@omb.eop.gov, and to Judith-B.Herman@fcc.gov, Federal Communications Commission (FCC). To submit your comments by e-mail send them to: PRA@fcc.gov.

FOR FURTHER INFORMATION CONTACT: For additional information about the information collection(s), contact Judith B. Herman at 202-418-0214.

SUPPLEMENTARY INFORMATION: OMB Control No.: 3060-0987.

Title: Section 20.18(l)(1)(i-iii) and 20.18(l)(2)(i-iii), 911 Callback Capability; Non-Initialized Handsets.

Form No.: N/A.

Type of Review: Extension of a currently approved collection.

Respondents: Business or other for-profit and State, Local or Tribal Government.

Number of Respondents: 1,384 respondents; 226,384 responses.

Estimated Time per Response: .014396 hours.

Frequency of Response: Third party disclosure requirements.

Obligation to Respond: Mandatory. Statutory authority for this collection of information is contained in 47 U.S.C. sections 154, 160, 201, 251-254, 303, and 332.

Total Annual Burden: 3,259 hours.

Annual Cost Burden: N/A.

Privacy Act Impact Assessment: N/A.

Nature and Extent of Confidentiality: There is no need for confidentiality.

Needs and Uses: The Commission is seeking Office of Management and Budget (OMB) approval for an extension of this information collection (no change in the third party disclosure requirements). The Commission will submit this information collection after this 60 day comment period.

In 2003, the Commission modified 47 CFR section 20.18(l) to further improve the ability of public safety answering points (PSAPs) to respond quickly and efficiently to calls for emergency assistance made from non-service initialized wireless mobile handsets. Non-service-initialized wireless mobile handsets (non-initialized handsets) are not registered for service with any Commercial Mobile Radio Service (CMRS) licensee. A non-initialized handset lacks a dialable number, but is programmed to make outgoing 911 calls. The Commission addressed issues arising from the inability of a PSAP operator to call back a 911 caller who becomes disconnected when using a non-service-initialized wireless handset. These requirements also apply to manufacturers of 911-only handsets that are manufactured after May 2, 2004.

The third party disclosure requirements in this information collection under 47 CFR 20.18(l) are: Licensees that donate non-initialized handsets for purposes of providing access to 911 services and manufacturers of “911-only” handsets are required to program each handset with 911, plus the decimal representation of the seven least significant digits of the Electronic Serial Number (ESN), International Mobile Equipment Identifier, or any other identifier unique to that handset (911-xxx-xxxx). This unique number is conveyed to the PSAP when “911” is dialed. Secondly, 911 services and manufacturers of “911-only” handsets are required to affix to each handset a label which is designed to withstand the length of service expected, and which notifies the user that its handset can only be used to dial 911, that a 911 operator will not be able to call the user back, and that the user should convey the exact location of the emergency as soon as possible. Finally, licensees that donate non-initialized handsets for purposes of providing access to 911 services and manufacturers of “911-only” handsets donating non-initialized phones must institute education programs to inform users of the limitation of non-initialized handsets. An education program must include a notice, giving a detailed explanation of such limitations, including distinctions between service initialized handsets and non-initialized handsets. Wireless carriers are given the flexibility to design and execute the education program which bests responds to the individual needs of the carrier's service area.

The information will assist PSAPs by identifying incoming emergency calls originating from non-initialized handsets, thereby prompting the PSAP operators to obtain all the necessary information to locate and assist the caller. This is intended to reduce the delays in response time attributed to incidents without clear location identification. Similarly, the public education requirement, along with the labeling requirement, serves to advise consumers regarding the limitations of a non-initialized handset. They also serve to advise callers using non-initialized handsets that they must be sure to provide as much specific information to the PSAP operator as soon as possible regarding the location of the emergency situation, because there is no call back capability to a non-initialized handset.

Federal Communications Commission.
Marlene H. Dortch,
Secretary, Office of the Secretary, Office of Managing Director.

[FR Doc. 2011-19152 Filed 7-28-11; 8:45 am]

BILLING CODE 6712-01-P